NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on May 8-9, 2014. A sample of agenda items to be discussed during the public session includes: (1) A discussion on possible revisions to the NRC Medical Policy Statement; (2) an update on medical-related events; (3) a discussion on amendments to the ACMUI Bylaws; (4) an update on the status of the research project related to the release of patients following iodine-131 therapy; and (5) a presentation on NNSA's efforts related to molybdenum-99 production. The agenda is subject to change. The current agenda and any updates will be available at http://www.nrc.gov/reading-rm/doc-collections/acmui/meetings/2014.html, or by emailing Ms. Sophie Holiday at the contact information below.

Purpose: Discuss issues related to 10 CFR Part 35 Medical Use of Byproduct Material.

Date and Time for Closed Sessions: May 08, 2014, from 7:30 a.m. to 8:30 a.m. and May 09, 2014 from 7:30 a.m. to 9:00 a.m. and 3:30 p.m. to 4:00 p.m. The session on May 08, 2014 will be closed for badging and enrollment for new members to the ACMUI. Both sessions on May 09, 2014 will be closed for ACMUI training.

Date and Time for Open Sessions: May 08, 2014, from 8:30 a.m. to 3:30 p.m. and May 09, 2014, from 9:00 a.m. to 3:30 p.m.

Address for Public Meeting: U.S. Nuclear Regulatory Commission, Two White Flint North Building, Room T2-B3, 11545 Rockville Pike, Rockville, Maryland 20852.

Public Participation: Any member of the public who wishes to participate in the meeting in person or via phone should contact Ms. Holiday using the information below. The meeting will also be webcast live: video.nrc.gov.

Contact Information: Sophie J. Holiday, email: sophie.holiday@nrc.gov, telephone: (301) 415-7865.

Conduct of the Meeting

Bruce R. Thomadsen, Ph.D., will chair the meeting. Dr. Thomadsen will conduct the meeting in a manner that will facilitate the orderly conduct of business. The following procedures apply to public participation in the meeting:

1. Persons who wish to provide a written statement should submit an electronic copy to Ms. Holiday at the contact information listed above. All submittals must be received by May 1, 2014, and must pertain to the topic on the agenda for the meeting.

2. Questions and comments from members of the public will be permitted during the meeting, at the discretion of the Chairman.

3. The draft transcript and meeting summary will be available on ACMUI's Web site http://www.nrc.gov/reading-rm/doc-collections/acmui/meetings/2014.html on or about June 20, 2014.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10 of the Code of Federal Regulations, Part 7.

Dated: March 5, 2014.
Andrew L. Bates,
Advisory Committee Management Officer.

[FR Doc. 2014-05265 Filed 3-10-14; 8:45 am]

BILLING CODE 7590-01-P